DEPARTMENT OF COMMERCE

International Trade Administration

[A-570-164]

Certain Paper Plates From the People's Republic of China: Preliminary Affirmative Determination of Sales at Less Than Fair Value, Preliminary Affirmative Determination of Critical Circumstances, in Part, Postponement of Final Determination, and Extension of Provisional Measures

AGENCY: Enforcement and Compliance, International Trade Administration, Department of Commerce.

SUMMARY: The U.S. Department of Commerce (Commerce) preliminarily determines that certain paper plates (paper plates) from the People's Republic of China (China) are being, or are likely to be, sold in the United States at less than fair value (LTFV). The period of investigation (POI) is July 1, 2023, through December 31, 2023. Interested parties are invited to comment on this preliminary determination.

DATES: Applicable September 5, 2024.

FOR FURTHER INFORMATION CONTACT: Tylar Lewis, Toni Page, or Lingjun Wang, AD/CVD Operations, Office VII, Enforcement and Compliance, International Trade Administration, U.S. Department of Commerce, 1401 Constitution Avenue NW, Washington, DC 20230; telephone: (202) 482-6009, (202) 482-1398, or (202) 482-2316, respectively.

SUPPLEMENTARY INFORMATION:

Background

This preliminary determination is made in accordance with section 733(b) of the Tariff Act of 1930, as amended (the Act). Commerce published the notice of initiation of this investigation on February 26, 2024.¹ On June 12, 2024, Commerce postponed the preliminary determination of this investigation until August 22, 2024.² On July 22, 2024, Commerce tolled certain deadlines in this administrative proceeding by seven days.³ The deadline for the preliminary determination is now August 29, 2024.

¹ See Certain Paper Plates from the People's Republic of China, Thailand, and the Socialist Republic of Vietnam: Initiation of Less-Than-Fair-Value Investigations, 89 FR 14046 (February 26, 2024) (Initiation Notice).

² See Certain Paper Plates from the People's Republic of China, Thailand, and the Socialist Republic of Vietnam: Postponement of Preliminary Determinations in the Less-Than-Fair-Value Investigations, 89 FR 49833 (June 12, 2024).

³ See Memorandum, “Tolling of Deadlines for Antidumping and Countervailing Duty Proceedings,” dated July 22, 2024.

For a complete description of the events that followed the initiation of this investigation, see the Preliminary Decision Memorandum.⁴ A list of topics included in the Preliminary Decision Memorandum is included as Appendix II to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁴ See Memorandum, “Decision Memorandum for the Preliminary Affirmative Determination in the Less-Than-Fair-Value Investigation of Certain Paper Plates from the People's Republic of China,” dated concurrently with, and hereby adopted by, this notice (Preliminary Decision Memorandum).

Scope of the Investigation

The products covered by this investigation are paper plates from China. For a complete description of the scope of this investigation, see Appendix I.

Scope Comments

In accordance with the preamble to Commerce's regulations,⁵ the Initiation Notice set aside a period of time for parties to raise issues regarding product coverage (i.e., scope).⁶ No interested party commented on the scope of the investigation as it appeared in the Initiation Notice. Commerce is not preliminarily modifying the scope language as it appeared in the Initiation Notice. See the scope in Appendix I to this notice.

⁵ See Antidumping Duties; Countervailing Duties, Final Rule, 62 FR 27296, 27323 (May 19, 1997).

⁶ See Initiation Notice, 89 FR at 14047.

Methodology

Commerce is conducting this investigation in accordance with section 731 of the Act. Commerce has calculated export prices in accordance with section 772(a) of the Act. Because China is a non-market economy, within the meaning of section 771(18) of the Act, Commerce has calculated normal value in accordance with section 773(c) of the Act. Furthermore, pursuant to sections 776(a) and (b) of the Act, Commerce preliminarily relied upon facts otherwise available, with adverse inferences, for the China-wide entity, which includes: (1) Anhui Yiqin Co., Ltd.; (2) Ningbo Artcool Co., Ltd.; (3) Ningbo Fenghua Yongfa Printing Stationery Co., Ltd.; (4) Shaoneng Group Guangdon Luzhou ECO Technology Co., Ltd.; (5) Yuyao Hongxiang Printing Co., Ltd.; (6) Zhejiang Kingsun Eco-Pack Co., Ltd.; (7) Zhejiang Xieli Science & Technology Co., Ltd.; (8) Guangdong Shaoneng Group Luzhou Technology Development Co., Ltd.; and (9) Paper World Limited. For a full description of the methodology underlying Commerce's preliminary determination, see the Preliminary Decision Memorandum.

Preliminary Affirmative Determination of Critical Circumstances, in Part

In accordance with section 733(e) of the Act and 19 CFR 351.206, Commerce preliminarily determines that critical circumstances exist with respect to imports of paper plates from China for Jinhua P&P Products Co., Ltd (Jinhua), the non-selected companies eligible for a separate rate, and the China-wide entity, but that critical circumstances do not exist for Fuzhou Hengli Paper Co., Ltd. (Fuzhou Hengli) and its unaffiliated producers. For a full description of the methodology and results of Commerce's critical circumstances analysis, see the Preliminary Decision Memorandum.

Combination Rates

In the Initiation Notice,⁷ Commerce stated that it would calculate producer/exporter combination rates for the respondents that are eligible for a separate rate in this investigation. Policy Bulletin 05.1 describes this practice.⁸

⁷ See Initiation Notice, 89 FR at 14051.

⁸ See Enforcement and Compliance's Policy Bulletin No. 05.1, regarding, “Separate-Rates Practice and Application of Combination Rates in Antidumping Investigations involving Non-Market Economy Countries,” (April 5, 2005) (Policy Bulletin 05.1), available on Commerce's website at https://enforcement.trade.gov/policy/bull05-1.pdf.

Preliminary Determination

Commerce preliminarily determines that the following estimated weighted-average dumping margins exist:

Producer | Exporter | Estimated weighted-average dumping margin (percent) | Cash deposit rate (adjusted for subsidy offsets) (percent)
Guangdong Ecosource Environmental Technology Co., Ltd | Fuzhou Hengli Paper Co., Ltd | 0.00 | Not Applicable
Ningbo Hongtai Package New Material Technology Co., Ltd | Fuzhou Hengli Paper Co., Ltd | 0.00 | Not Applicable
Jinhua P&P Products Co., Ltd | Jinhua P&P Products Co., Ltd | 650.48 | 650.48
Festa Party Products Mfy. (Zhongshan) Co., Ltd | Festa (Guangzhou) Co., Ltd | 650.48 | 650.48
Top Printing Paper Products (Zhongshan) Co., Ltd | Festa (Guangzhou) Co., Ltd | 650.48 | 650.48
Festa Party Products Mfy. (Zhongshan) Co., Ltd | Festa Limited | 650.48 | 650.48
Top Printing Paper Products (Zhongshan) Co., Ltd | Festa Limited | 650.48 | 650.48
Jieyang Weikangda Paper Co., Ltd | Fujian Putian Zhonghao Trade Co., Ltd | 650.48 | 650.48
Dongyang Founder Paper Product Co., Ltd | Fujian Putian Zhonghao Trade Co., Ltd | 650.48 | 650.48
Fuzhou Nicrolandee Arts & Craft Co., Ltd | Fuzhou Nicrolandee Arts & Craft Co., Ltd | 650.48 | 650.48
Zhejiang Lanweier Paper Products Co., Ltd | Hangzhou Enli Paper Products Co. Ltd | 650.48 | 650.48
Landward Color Printing Co., Ltd | Landward Color Printing Co., Ltd | 650.48 | 650.48
Ningbo Hongtai Package New Material Technology Co., Ltd | Ningbo Feisuo Import & Export Co., Ltd | 650.48 | 650.48
Ningbo Homelink Eco-Itech Co., Ltd | Ningbo Homelink Eco-Itech Co., Ltd | 650.48 | 650.48
Ningbo Hongtai Package New Material Technology Co., Ltd | Ningbo Hongtai Package New Material Technology Co., Ltd | 650.48 | 650.48
Ningbo Kosda New Material Technology Co., Ltd | Ningbo Kosda New Material Technology Co., Ltd | 650.48 | 650.48
Ningbo Goldland Industry and Technology Co., Ltd | Ningbo Qtop Import & Export Co., Ltd | 650.48 | 650.48
Zhejiang Lingrong Crafts Co., Ltd | Ningbo Qtop Import & Export Co., Ltd | 650.48 | 650.48
Qingdao Robana Paper Product Co., Ltd | Qingdao Gold Top Trade Co. Ltd | 650.48 | 650.48
Qingdao Wonderful Industry and Trade Co. Ltd | Qingdao Wonderful Industry and Trade Co. Ltd | 650.48 | 650.48
Shandong Boao Package Co., Ltd | Shandong Boao Package Co., Ltd | 650.48 | 650.48
Festa Party Products Mfy. (Zhongshan) Co., Ltd | Xanadu Industrial Limited | 650.48 | 650.48
Top Printing Paper Products (Zhongshan) Co., Ltd | Xanadu Industrial Limited | 650.48 | 650.48
Hangzhou Enli Paper Products Co., Ltd | Yeko Trading Limited | 650.48 | 650.48
China-Wide Entity |  | *1039.05 | 1039.05
* Rate based on facts available with adverse inferences.

Suspension of Liquidation

In accordance with section 733(d)(2) of the Act, Commerce will direct U.S. Customs and Border Protection (CBP) to suspend liquidation of subject merchandise, as described in Appendix I, entered, or withdrawn from warehouse, for consumption on or after the date of publication of this notice in the Federal Register, as discussed below. Further, pursuant to section 733(d)(1)(B) of the Act and 19 CFR 351.205(d), Commerce will instruct CBP to require a cash deposit equal to the weighted average amount by which normal value exceeds U.S. price, as indicated in the chart above as follows: (1) for the producer/exporter combinations listed in the table above, the cash deposit rate is equal to the estimated weighted-average dumping margin listed for that combination in the table; (2) for all combinations of China producers/exporters of merchandise under consideration that have not established eligibility for their own separate rates, the cash deposit rate will be equal to the estimated weighted-average dumping margin established for the China-wide entity; and (3) for all third-county exporters of merchandise under consideration not listed in the table above, the cash deposit rate is the cash deposit rate applicable to the China producer/exporter combination (or the China-wide entity) that supplied that third-country exporter.

Because the estimated weighted-average dumping margin for certain producer/exporter combinations are zero, Commerce is directing CBP not to suspend liquidation of entries of subject merchandise from those producer/exporter combinations. Entries of subject merchandise from these exporters supplied by any other producer, or from these producers that supplied any other exporter, or from third-country exporters that sourced from the excluded producer/exporter combination, are not entitled to this exclusion from suspension of liquidation and are subject to the provisional measures at the cash deposit rate established for the China-wide entity.

Should the final estimated weighted-average dumping margin be zero or de minimis for the producer/exporter combinations identified above, entries of merchandise from these producer/exporter combinations will be excluded from the order. Such exclusion(s) will not be applicable to merchandise exported to the United States by any other producer/exporter combinations or by third-country exporters that sourced from the excluded producer/exporter combinations.

Section 733(e)(2) of the Act provides that, given an affirmative determination of critical circumstances, any suspension of liquidation shall apply to unliquidated entries of merchandise entered, or withdrawn from warehouse, for consumption on or after the later of: (a) the date which is 90 days before the date on which the suspension of liquidation was first ordered; or (b) the date on which notice of initiation of the investigation was published. Commerce preliminarily finds that critical circumstances exist for imports of subject merchandise from the following producer/exporter combinations: Jinhua P&P Products Co., Ltd., separate rate companies, and the China-wide entity. In accordance with section 733(e)(2)(A) of the Act, the suspension of liquidation shall apply to all unliquidated entries of merchandise from the producer/exporter combinations identified in this paragraph that were entered, or withdrawn from warehouse, for consumption on or after the date which is 90 days before the publication of this notice.

To determine the cash deposit rate, Commerce normally adjusts the estimated weighted-average dumping margin by the amount of domestic subsidy pass-through and export subsidies determined in a companion countervailing duty (CVD) proceeding when CVD provisional measures are in effect. We preliminarily determine that Fuzhou Hengli is not entitled to an adjustment for domestic subsidies passed-through because it did not receive a countervailable subsidy (other than export subsidy) that affects manufacturing cost of the subject merchandise. We preliminarily determine that Jinhua is not entitled to an adjustment for domestic subsidies passed-through because it failed to demonstrate a subsidy-to-cost link and a cost-to-price link. In addition, in the preliminary determination of the companion CVD investigation of paper plates from China, Commerce determined that Fuzhou Hengli, but not Jinhua, benefited from certain subsidy programs contingent on exports.⁹ In this investigation, we made no adjustment to the estimated dumping margins for export subsidies of either company because Fuzhou Hengli's dumping margin is zero and Jinhua's export subsidy rate is zero in the companion CVD investigation.¹⁰

⁹ See Certain Paper Plates from the People's Republic of China: Preliminary Affirmative Countervailing Duty Determination, Preliminary Affirmative Determination of Critical Circumstances, in Part, and Alignment of Final Determination with Final Antidumping Duty Determination, 89 FR 54432 (July 1, 2024).

¹⁰ Id.

Should provisional measures in the companion CVD investigation expire prior to the expiration of provisional measures in this LTFV investigation, Commerce will direct CBP to begin collecting cash deposits at a rate equal to the estimated weighted-average dumping margins calculated in this preliminary determination unadjusted for the passed-through domestic subsidies or for export subsidies at the time the CVD provisional measures expire.

These suspension of liquidation instructions will remain in effect until further notice.

Disclosure

Commerce intends to disclose to interested parties the calculations performed in connection with this preliminary determination within five days of its public announcement or, if there is no public announcement, within five days of the date of publication of this notice in accordance with 19 CFR 351.224(b).

Consistent with 19 CFR 351.224(e), Commerce will analyze and, if appropriate, correct any timely allegations of significant ministerial errors by amending the preliminary determination. However, consistent with 19 CFR 351.224(d), Commerce will not consider incomplete allegations that do not address the significance standard under 19 CFR 351.224(g) following the preliminary determination. Instead, Commerce will address such allegations in the final determination together with issues raised in the case briefs or other written comments.

Verification

As provided in section 782(i)(1) of the Act, Commerce intends to verify information relied upon in making its final determination.

Public Comment

Case briefs or other written comments may be submitted to the Assistant Secretary for Enforcement and Compliance no later than seven days after the date on which the last final verification report is issued in this investigation.¹¹ Rebuttal briefs, limited to issues raised in the case briefs, may be filed not later than five days after the date for filing case briefs.¹² Interested parties who submit case briefs or rebuttal briefs in this proceeding must submit: (1) a table of contents listing each issue; and (2) a table of authorities.¹³

¹¹ See 19 CFR 351.309(c)(1)(i); see also 19 CFR 351.303 (for general filing requirements).

¹² See 19 CFR 351.309(d); see also Administrative Protective Order, Service, and Other Procedures in Antidumping and Countervailing Duty Proceedings, 88 FR 67069, 67077 (September 29, 2023) (APO and Service Final Rule).

¹³ See 19 351.309(c)(2) and (d)(2).

As provided under 19 CFR 351.309(c)(2) and (d)(2), in prior proceedings we have encouraged interested parties to provide an executive summary of their brief that should be limited to five pages total, including footnotes. In this investigation, we instead request that interested parties provide at the beginning of their briefs a public, executive summary for each issue raised in their briefs.¹⁴ Further, we request that interested parties limit their public executive summary of each issue to no more than 450 words, not including citations. We intend to use the public executive summaries as the basis of the comment summaries included in the issues and decision memorandum that will accompany the final determination in this investigation. We request that interested parties include footnotes for relevant citations in the executive summary of each issue. Note that Commerce has amended certain of its requirements pertaining to the service of documents in 19 CFR 351.303(f).¹⁵

¹⁴ We use the term “issue” here to describe an argument that Commerce would normally address in a comment of the Issues and Decision Memorandum.

¹⁵ See APO and Service Final Rule.

Pursuant to 19 CFR 351.310(c), interested parties who wish to request a hearing, limited to issues raised in the case and rebuttal briefs, must submit a written request to the Assistant Secretary for Enforcement and Compliance, U.S. Department of Commerce, within 30 days after the date of publication of this notice. Requests should contain the party's name, address, and telephone number, the number of participants, whether any participant is a foreign national, and a list of the issues to be discussed. If a request for a hearing is made, Commerce intends to hold the hearing at a time and date to be determined.

Postponement of Final Determination and Extension of Provisional Measures

Section 735(a)(2) of the Act provides that a final determination may be postponed until not later than 135 days after the date of the publication of the preliminary determination if, in the event of an affirmative preliminary determination, a request for such postponement is made by exporters who account for a significant proportion of exports of the subject merchandise, or in the event of a negative preliminary determination, a request for such postponement is made by the petitioners. Pursuant to 19 CFR 351.210(e)(2), Commerce requires that requests by respondents for postponement of a final antidumping duty determination be accompanied by a request for extension of provisional measures from a four-month period to a period not more than six months in duration.

Fuzhou Hengli, Jinhua, and the American Paper Plate Coalition ¹⁶ (the petitioner) requested that Commerce postpone the final determination and that provisional measures be extended to a period not to exceed six months.¹⁷ In accordance with section 735(a)(2)(A) of the Act and 19 CFR 351.210(b)(2)(ii), because: (1) the preliminary determination is affirmative; (2) the requesting exporters account for a significant proportion of exports of the subject merchandise; and (3) no compelling reasons for denial exist, Commerce is postponing the final determination and extending the provisional measures from a four-month period to a period not greater than six months. Accordingly, Commerce will make its final determination no later than 135 days after the date of publication of this preliminary determination.

¹⁶ The members of the Coalition are: AJM Packaging Corporation; Aspen Product Inc; Dart Container Corporation; Hoffmaster Group, Inc.; Huhtamaki Americas, Inc.; and Unique Industries, Inc.

¹⁷ See Fuzhou Hengli's Letter, “Fuzhou Hengli's Request for Final Extension of Determination and Postponement of Provisional Measures,” dated August 27, 2024; see also Petitioner's Letter, “Petitioner's Request to Postpone the Final Antidumping Duty Investigations,” August 28, 2024; and Jinhua's Letter, “Request to Extend Final Determination,” August 29, 2024.

U.S. International Trade Commission Notification

In accordance with section 733(f) of the Act, Commerce will notify the U.S. International Trade Commission (ITC) of its preliminary determination of sales at LTFV. If the final determination is affirmative, the ITC will determine before the later of 120 days after the date of this preliminary determination or 45 days after the final determination whether imports of the subject merchandise are materially injuring, or threaten material injury to, the U.S. industry.

Notification to Interested Parties

This determination is issued and published in accordance with sections 733(f) and 777(i)(1) of the Act and 19 CFR 351.205(c).

Dated: August 29, 2024.
Ryan Majerus,
Deputy Assistant Secretary for Policy and Negotiations, performing the non-exclusive functions and duties of the Assistant Secretary for Enforcement and Compliance.

Appendix I

Scope of the Investigation

The merchandise subject to this investigation is certain paper plates. Paper plates subject to this investigation may be cut from rolls, sheets, or other pieces of paper and/or paper board. Paper plates subject to this investigation have a depth up to and including two (2.0) inches, as measured vertically from the base to the top of the lip, or the edge if the plate has no lip. Paper plates subject to this investigation may be uncolored, white, colored, or printed. Printed paper plates subject to this investigation may have any type of surface finish, and may be printed by any means with images, text and/or colors on one or both surfaces. Colored paper plates subject to this investigation may be colored by any method, including but not limited to printing, beater-dyeing, and dip-dyeing. Paper plates subject to this investigation may be produced from paper of any type (including, but not limited to, bamboo, straws, bagasse, hemp, kenaf, jute, sisal, abaca, cotton inters and reeds, or from non-plant sources, such as synthetic resin (petroleum)-based resins), may have any caliper or basis weight, may have any shape or size, may have one or more than one section, may be embossed, may have foil or other substances adhered to their surface, and/or may be uncoated or coated with any type of coating.

The paper plates subject to this investigation remain covered by the scope of this investigation whether imported alone, or in any combination of subject and non-subject merchandise. When paper plates subject to this investigation are imported in combination with non-subject merchandise, only the paper plates subject to this investigation are subject merchandise.

The paper plates subject to this investigation include paper plates matching the above description that have been finished, packaged, or otherwise processed in a third country by performing finishing, packaging, or processing that would not otherwise remove the merchandise from the scope of the investigation if performed in the country of manufacture of the paper plates. Examples of finishing, packaging, or other processing in a third country that would not otherwise remove the merchandise from the scope of the investigation if performed in the country of manufacture of the paper plates include, but are not limited to, printing, application of other surface treatments such as coatings, repackaging, embossing, and application of foil surface treatments.

Excluded from the scope of this investigation are paper plates molded or pressed directly from paper pulp (including but not limited to unfelted pulp), which are currently classifiable under subheading 4823.70.0020 of the Harmonized Tariff Schedule of the United States (HTSUS).

Also excluded from the scope of this investigation are articles that otherwise would be covered but which exhibit the following two physical characteristics: (a) depth (measured vertically from the base to the top of the lip, or edge if no lip) equal to or greater than 1.25 inches but less than two (2.0) inches, and (b) a base not exceeding five (5.0) inches in diameter if round, or not exceeding 20 square inches in area if any other shape.

Also excluded from the scope of this investigation are paper bowls, paper buckets, and paper food containers with closeable lids.

Paper plates subject to this investigation are currently classifiable under HTSUS subheading 4823.69.0040. Paper plates subject to this investigation also may be classified under HTSUS subheading 4823.61.0040. If packaged with other articles, the paper plates subject to this investigation also may be classified under HTSUS subheadings 9505.90.4000 and 9505.90.6000. While the HTSUS subheading(s) are provided for convenience and customs purposes, the written description of the subject merchandise is dispositive.

Appendix II

List of Topics Discussed in the Preliminary Decision Memorandum

I. Summary

II. Background

III. Period of Investigation

IV. Discussion of the Methodology

V. Preliminary Affirmative Determination of Critical Circumstances, In Part

VI. Adjustment Under Section 777(A)(F) of the Act

VII. Adjustments to Cash Deposit Rates for Export Subsidies In the Companion Countervailing Duty Investigation

VIII. Currency Conversion

IX. Recommendation

[FR Doc. 2024-19975 Filed 9-4-24; 8:45 am]

BILLING CODE 3510-DS-P